DEPARTMENT OF THE INTERIOR

Bureau of Land Management

[WO-310-1310-PB-24 1A]

Extension of Approved Information Collection, OMB Approval Number 1004-0145

AGENCY: Bureau of Land Management, Interior.

ACTION: Notice and request for comments.

SUMMARY: In accordance with the Paperwork Reduction Act of 1995, the Bureau of Land Management (BLM) is requesting the Office of Management and Budget (OMB) to extend an existing approval to collect information from lessees, record title holders, operating rights owners, and operators on oil and gas leasing and exploration activities. BLM collects this information to determine compliance with the terms and conditions of the oil and gas lease and to monitor oil and gas leasing and exploration activities BLM approves. The nonform information under 43 CFR 3000-3120 authorizes BLM to manage oil and gas leasing and exploration activities.

DATES: You must submit your comments to BLM at the address below on or before October 23, 2001. BLM will not necessarily consider any comments received after the above date.

ADDRESSES: You may mail comments to: Regulatory Affairs Group (630), Bureau of Land Management, Mailstop 401LS, 1849 C Street, NW., Washington, DC 20240.

You may send comments via Internet to: WOComment@blm.gov. Please include “ATTN: 1004-0145” and your name and return address in your Internet message.

You may deliver comments to the Bureau of Land Management, Administrative Record, Room 401, 1620 L Street, NW., Washington DC.

Comments will be available for public review at the L Street address during regular business hours (7:45 a.m. to 4:15 p.m.) Monday through Friday.

FOR FURTHER INFORMATION CONTACT: You may contact Barbara Gamble on (202) 452-0338 (Commercial or FTS). Persons who use a telecommunication device for the deaf (TDD) may call the Federal Information Relay Service (FIRS) on ­1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information will have practical utility;

(b) the accuracy of our estimates of the information collection burden, including the validity of the methodology and assumptions we use;

(c) ways to enhance the quality, utility, and clarity of the information collected; and

ways to minimize the information collection burden on those who are to respond, including the use of appropriate automated, electronic, mechanical, or other technological collection techniques or other forms of information technology.

The Mineral Leasing Act of 1920 (MLA), 30 U.S.C. 191 et seq., gives the Secretary of the Interior responsibility for oil and gas leasing on approximately 570 million acres of public lands and national forests, and private lands where the mineral rights are reserved by the Federal Government. The Act of May 21, 1930 (30 U.S.C. 301-306), authorizes the leasing of oil and gas deposits under railroads and other rights-of-way. The Act of August 7, 1947 (Mineral Leasing Act of Acquired Lands), authorizes the Secretary to lease lands acquired by the United States (30 U.S.C. 341-359). The regulations under 43 CFR 3000-3120 authorize BLM to manage the oil and gas leasing and exploration activities. Without the information, BLM would not be able to analyze and approve oil and gas leasing and exploration activities.

BLM collects nonform information on oil and gas leasing and exploration activities when the lessee, record title holder, operating rights owner, or operator files any of the following information for BLM to adjudicate:

Information collection on oil and gas leasing and exploration activities | Estimated burden hours
1. Notice of option holdings for acreage chargeability option statement | 1
2. Petition requesting additional time to divest excess acreage | 1
3. Statement showing date, acreage, State in which leases are held | 1
4. Statement showing unit agreement entered into if lease is for lands within an approved unit | 1.5
5. Application for waiver, suspension, or reduction of rental or royalty | 1
6. Copy of communitization or drilling agreement interest held in operating, drilling, or development contracts | 2
7. Application to combine operations or transport oil | 2
8. Application for subsurface storage of oil and gas | 2
9. Statement that heirs and devisees are qualified to hold lease | 1
10. Reporting a change of name | 1
11. Notification of corporate merger | 2
12. Application for renewing lease | 1
13. Application to relinquish lease | 0.5
14. Application to reinstate lease | 0.5
15. Application for lease located within a right-of-way | 1
16. Application for oil and gas exploration permit in Alaska | 1
17. Reporting date of exploration activities | 1
18. Reporting completion of operations | 1

Based upon BLM experience with managing the oil and gas leasing and exploration activities, we estimate the above public reporting information collection burden. The estimated number of responses per year is 1,400 and the total annual burden is 1,400 hours.

BLM will summarize all responses to this notice and include them in the request for OMB approval. All comments will become a matter of public record.

Dated: July 30, 2001.
Michael H. Schwartz,
BLM Information Collection Clearance Officer.

[FR Doc. 01-21473 Filed 8-23-01; 8:45 am]

BILLING CODE 4310-84-M